DEPARTMENT OF TRANSPORTATION

Federal Aviation Administration

14 CFR Part 39

[Docket No. FAA-2011-1041; Directorate Identifier 2010-SW-109-AD; Amendment 39-16821; AD 2010-26-52]

RIN 2120-AA64

Airworthiness Directives; Bell Helicopter Textron, Inc. Model 204B, 205A, 205A-1, 205B, 210, 212, 412, 412CF, 412EP Helicopters

AGENCY: Federal Aviation Administration (FAA), DOT.

ACTION: Final rule; request for comments.

SUMMARY: We are publishing in the Federal Register an amendment which was sent previously to all known U.S. owners and operators that supersedes an existing airworthiness directive (AD) for the specified Bell Helicopter Textron, Inc. (BHT) Model helicopters with certain tail rotor blades (blades). The superseded AD requires, before further flight, replacing certain blades with airworthy blades. This AD retains the requirements of the superseded AD but adds new blade part numbers (P/Ns) and serial numbers (S/Ns) to the applicability. This AD was prompted by another incident in which the blade tip weight separated from a blade during flight, causing vibration. This incident led to the determination that additional blades could be affected, and should be added to the applicability. We are issuing this AD to prevent loss of the blade tip weight, loss of a blade, and subsequent loss of control of the helicopter.

DATES: This AD is effective November 15, 2011 to all persons except those persons to whom it was made immediately effective by Emergency AD 2010-26-52, issued on December 10, 2010, which contained the requirements of this amendment.

We must receive comments on this AD by December 30, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Bell Helicopter Textron, Inc., P.O. Box 482, Fort Worth, TX 76101, telephone (817) 280-3391, fax (817) 280-6466, or at http://www.bellcustomer.com/files/.

Examining the AD Docket

You may examine the AD docket on the Internet at http://www.regulations.gov, or in person at the Docket Operations Office between 9 a.m. and 5 p.m., Monday through Friday, except Federal holidays. The AD docket contains this AD, the regulatory evaluation, any comments received, and other information. The street address for the Docket Operations Office (telephone: 1 (800) 647-5527) is in the ADDRESSES section. Comments will be available in the AD docket shortly after receipt.

You may review copies of the referenced service information at the FAA, Office of the Regional Counsel, Southwest Region, 2601 Meacham Blvd., Room 663, Fort Worth, Texas during normal business hours.

FOR FURTHER INFORMATION CONTACT: Martin R. Crane, Aerospace Engineer, FAA, Rotorcraft Directorate, Rotorcraft Certification Office, 2601 Meacham Blvd., Fort Worth, Texas 76137; telephone (817) 222-5170; fax (817) 222-5783; email: 7-AVS-ASW-170@faa.gov.

SUPPLEMENTARY INFORMATION:

Discussion

We are publishing in the Federal Register an amendment adopting Emergency AD 2010-26-52, issued December 10, 2010 (EAD 2010-26-52), which was sent to all known owners and operators of BHT Model 204B, 205A, 205A-1, 205B, 210, 212, 412, 412CF, and 412EP helicopters with certain blades installed. EAD 2010-26-52 supersedes AD 2007-19-53, Amendment 39-15265 (72 FR 65224, November 20, 2007) issued October 31, 2007 (AD 2007-19-53). AD 2007-19-53 required, before further flight, replacing certain blades with airworthy blades. That action was prompted by three reports of blade tip weights being slung from the blades during flights, causing significant vibration. We issued AD 2007-19-53 on a limited number of blades to address this unsafe condition, which could result in the loss of the blade tip weight, loss of a blade, and subsequent loss of control of the helicopter.

Actions Since AD was Issued

Since we issued AD 2007-19-53, another incident occurred in which the blade tip weight separated from a blade during flight, causing vibration. This incident led to the determination that additional blades could be affected and these blade numbers should be added to the applicability section of the AD. We issued superseding EAD 2010-26-52 which retains the same requirements of AD 2007-19-53, but adds new blade P/Ns and S/Ns to the applicability.

Relevant Service Information

We have reviewed the following revised BHT Alert Service Bulletins (ASBs), all dated November 22, 2010 except for ASB No. 204-07-61. Each ASB contains a Rotor Blades Inc. (RBI) letter that adds blade P/Ns and S/Ns to the RBI list.

• No. 204-07-61, Revision A, dated September 19, 2007, for Model 204 helicopters;

• No. 205-07-95, Revision B, for Model 205 helicopters;

• No. 205B-07-46, Revision B, for Model 205B helicopters;

• No. 212-07-125, Revision B, for Model 212 helicopters;

• No. 412CF-07-30, Revision B, for Model 412CF helicopters;

• No. 412-07-123, Revision B, for Model 412 and 412EP helicopters.

FAA's Determination

We are issuing this AD because we evaluated all relevant information and determined the unsafe condition described previously is likely to exist or develop on other helicopters of the same type designs. We have also determined that Emergency AD 2010-26-52 contained an incorrect Alert Service Bulletin (ASB) number for the Model 412CF helicopters in the preamble discussion. Therefore, we are making a change to this AD to correct the ASB number. We have also made other minor editorial changes to this AD, including reorganizing the Applicability table. We have determined that these changes do not increase the economic burden on any AD operator nor do they increase the scope of the AD.

AD Requirements

This AD requires, before further flight, unless already accomplished, replacing any affected blade with an airworthy blade. An airworthy blade is one that has a P/N and S/N not included in the Applicability section of this AD. Affected blades are those having a P/N and S/N as follows:

Part No. | Serial No.
204-011-702-015 | AFS-12703, AFS-12893, AFS-23525, or AFS-23573.
204-011-702-121 | A-22020.
212-010-750-105 | *A-11923.
212-010-750-105FM | A-10090, A-10836, *A-10857, A-11207, A-11332, *A-11617, *A-11828, *A-12043, or *A-12091.
212-010-750-113 | A-14953, A-15090, or CS-12702.
212-010-750-113FM | A-12240, *A-12286, A-12296, *A-12398, A-12640, A-12670, A-12789, A-13033, *A-13088, A-13096, *A-13106, A-13134, A-13199, A-13264, A-13366, or *A-13539.
212-010-750-133 | A-15602.
The * indicates the newly added serial-numbered blades.

FAA's Justification and Determination of the Effective Date

An unsafe condition exists that requires the immediate adoption of this AD. The short compliance time of before further flight justifies waiving notice and comment prior to adoption of this rule because the unsafe condition described previously is likely to exist or develop on other helicopters of the same type designs. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-1041 and Directorate Identifier 2010-SW-109-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 265 helicopters of U.S. registry. We estimate the following costs to comply with this AD:

Estimated Costs
Action | Labor cost | Parts cost | Cost per helicopter | Cost on U.S. operators
Inspect for S/N affectivity | 2.0 hrs × $85 hr = $170 | $ 0 | $170 | $45,050
Remove and replace blade | 6.0 hrs × $85 hr = $510 | 38,000 | 38,510 | 1,347,850

This cost estimate is based on the assumption that all affected helicopters will be inspected, and 35 helicopters will have a blade replaced. The manufacturer has indicated that some of the costs associated with this AD may be covered under a warranty program, but this AD has not considered this warranty program when calculating total costs on U.S. operators.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction; and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR Part 39 as follows:

PART 39—AIRWORTHINESS DIRECTIVES

1. The authority citation for Part 39 continues to read as follows:

Authority: 49 U.S.C. 106(g), 40113, 44701.

§ 39.13 [Amended]

2. The FAA amends § 39.13 by adding the following new airworthiness directive (AD):

2010-26-52 Bell Helicopter Textron, Inc.: Amendment 39-16821; Docket No. FAA-2011-1041; Directorate Identifier 2010-SW-109-AD; Supersedes AD 2007-19-53, Amendment 39-15265, Docket No. FAA-2007-0180, Directorate Identifier 2007-SW-37-AD.

Effective Date

(a) This AD is effective November 15, 2011 to all persons except those persons to whom it was made immediately effective by Emergency AD 2010-26-52, issued on December 10, 2010, which contained the requirements of this amendment.

Other Affected ADs

(b) This AD supersedes AD 2007-19-53 (72 FR 65224, November 20, 2007).

Applicability

(c) Model 204B, 205A, 205A-1, 205B, 210, 212, 412, 412CF, and 412EP helicopters, certificated in any category, with a tail rotor blade (blade) having a part number and serial number, as follows:

Part No. | Serial No.
204-011-702-015 | AFS-12703, AFS-12893, AFS-23525, or AFS-23573.
204-011-702-121 | A-22020.
212-010-750-105 | *A-11923.
212-010-750-105FM | A-10090, A-10836, *A-10857, A-11207, A-11332, *A-11617, *A-11828, *A-12043, or *A-12091.
212-010-750-113 | A-14953, A-15090, or CS-12702.
212-010-750-113FM | A-12240, *A-12286, A-12296, *A-12398, A-12640, A-12670, A-12789, A-13033, *A-13088, A-13096, *A-13106, A-13134, A-13199, A-13264, A-13366, or *A-13539.
212-010-750-133 | A-15602.
Note 1: The * indicates the newly added serial-numbered blades.

.

Unsafe Condition

(d) This AD was prompted by another incident in which the blade tip weight separated from a blade during flight, causing vibration. This incident led to the determination that additional blades could be affected and should be added to the applicability. The actions specified by this AD are intended to prevent loss of the blade tip weight, loss of a blade, and subsequent loss of control of the helicopter.

Compliance

(e) Before further flight, unless accomplished previously.

(f) Replace any affected blade with an airworthy blade. An airworthy blade is one that has a part number and a serial number that is not listed in the Applicability section of this AD.

Note 2: Bell Helicopter Textron Alert Service Bulletin No. 204-07-61, Revision A, dated September 19, 2007, contains additional information about the subject of this AD. Bell Alert Service Bulletin No. 205-07-95, No. 205B-07-46, No. 212-07-125, No. 412CF-07-30, and No. 412-07-123, all Revision B and all dated November 22, 2010, also contain additional information about the subject of this AD. These Alert Service Bulletins are not incorporated by reference.

Special Flight Permit

(g) Special flight permits will not be issued.

Alternative Methods of Compliance (AMOCs)

(h) The Manager, Rotorcraft Certification Office, FAA, has the authority to approve AMOCs for this AD, if requested using the procedures found in 14 CFR 39.19. In accordance with 14 CFR 39.19, send your request to your principal inspector or local Flight Standards District Office, as appropriate. If sending information directly to the Manager of the Rotorcraft Certification Office, send it to the attention of the person identified in the Additional Information section of this AD.

Note 3: Before using any approved AMOC, we request that you notify your appropriate principal inspector, or lacking a principal inspector, your local Flight Standards District Office.

Additional Information

(i)(1) For more information about this AD, contact: Martin R. Crane, Aerospace Engineer, Rotorcraft Directorate, Rotorcraft Certification Office, FAA, 2601 Meacham Blvd., Fort Worth, Texas 76137; telephone (817) 222-5170; fax (817) 222-5783; email: 7-AVS-ASW-170@faa.gov.

(2) For service information identified in this AD, contact: Bell Helicopter Textron, Inc., P.O. Box 482, Fort Worth, TX 76101, telephone (817) 280-3391, fax (817) 280-6466, or at http://www.bellcustomer.com/files/.

(3) You may review copies of the service information at the FAA, Office of the Regional Counsel, Southwest Region, 2601 Meacham Blvd., Room 663, Fort Worth, Texas during normal business hours.

Subject

(j) The Joint Aircraft System Component Code is: 6410 Tail Rotor Blade.

Issued in Fort Worth, Texas, on September 21, 2011.
Kim Smith,
Manager, Rotorcraft Directorate, Aircraft Certification Service.

[FR Doc. 2011-27769 Filed 10-28-11; 8:45 am]

BILLING CODE 4910-13-P